NUCLEAR REGULATORY COMMISSION

10 CFR Part 50

[NRC-2025-0032]

Regulatory Guide: Emergency Response Planning and Preparedness for Nuclear Power Reactors

AGENCY: Nuclear Regulatory Commission.

ACTION: Final guide; issuance.

SUMMARY: The U.S. Nuclear Regulatory Commission (NRC) is issuing Revision 7 to Regulatory Guide (RG) RG-1.101, “Emergency Response Planning and Preparedness for Nuclear Power Reactors.” This revision updates the list of NRC-developed and NRC-endorsed guidance documents acceptable to meet the regulatory requirements for emergency response planning and preparedness. This revision also provides generic guidance for maintaining regulatory compliance for alert and notification systems (ANS) when making significant design changes, as well as provides guidance on a method to justify a 24-month frequency for emergency plan reviews.

DATES: Revision 7 to RG 1.101 is available on September 25, 2025.

ADDRESSES: Please refer to Docket ID NRC-2025-0032 when contacting the NRC about the availability of information regarding this document. You may obtain publicly available information related to this document using any of the following methods:

• Federal Rulemaking Website: Go to https://www.regulations.gov and search for Docket ID NRC-2025-0032. Address questions about Docket IDs in Regulations.gov to Bridget Curran; telephone: 301-415-1003; email: Bridget.Curran@nrc.gov. For technical questions, contact the individual(s) listed in the FOR FURTHER INFORMATION CONTACT section of this document.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

Revision 7 to RG 1.101 and the regulatory analysis may be found in ADAMS under Accession Nos. ML25065A240 and ML24019A196, respectively.

Regulatory guides are not copyrighted, and NRC approval is not required to reproduce them.

FOR FURTHER INFORMATION CONTACT: Cindy Rosales-Cooper, Office of Nuclear Security and Incident Response, telephone: 301-287-9500; email:

Cindy.Rosales-Cooper@nrc.gov, and Stanley Gardocki, Office of Nuclear Regulatory Research, telephone: 301-415-1067; email: Stanley.Gardocki@nrc.gov. Both are staff of the U.S. Nuclear Regulatory Commission, Washington, DC 20555-0001.

SUPPLEMENTARY INFORMATION:

I. Discussion

The NRC is issuing a revision in the NRC's “Regulatory Guide” series. This series was developed to describe methods that are acceptable to the NRC staff for implementing specific parts of the agency's regulations, to explain techniques that the staff uses in evaluating specific issues or postulated events, and to describe information that the staff needs in its review of applications for permits and licenses.

The proposed Revision 7 to RG 1.101 was issued with a temporary identification of Draft Regulatory Guide, DG-1423. The NRC is issuing Revision 7 of RG 1.101 to endorse and update guidance that is available to licensees and applicants on methods acceptable to the staff for complying with the NRC's regulations for emergency response plans and preparedness at nuclear power reactors in section 50.47 of title 10 of the Code of Federal Regulations (10 CFR), “Emergency plans,” and appendix E, “Emergency Planning and Preparedness for Production and Utilization Facilities,” to 10 CFR part 50, “Domestic Licensing of Production and Utilization Facilities.” This revision endorses Nuclear Energy Institute (NEI) white paper, “Enabling a Remote Response by Members of an Emergency Response Organization,” Revision 1, issued September 2024, and NEI 99-01, Revision 7, “Development of Emergency Action Levels for Non-Passive Reactors,” issued September 2024. In addition, this revision of RG 1.101 provides guidance for maintaining compliance with ANS requirements when making significant ANS design changes and clarifies the continued use of Revision 0 of the NEI white paper, “Implementing a 24-Month Frequency for Emergency Preparedness Program Reviews,” issued November 2019.

II. Additional Information

The NRC published a notice of the availability of DG-1423 in the Federal Register on March 10, 2025 (90 FR 11591) for a 30-day public comment period. The public comment period closed on April 9, 2025. Public comments on DG-1423 and the staff responses to the public comments are available in ADAMS under Accession No. ML25065A246.

III. Congressional Review Act

This RG is a rule as defined in the Congressional Review Act (5 U.S.C. 801-808). However, the Office of Management and Budget has not found it to be a major rule as defined in the Congressional Review Act.

IV. Backfitting, Forward Fitting, and Issue Finality

Issuance of RG 1.101 does not constitute backfitting as defined in 10 CFR 50.109, “Backfitting,” and as described in NRC Management Directive (MD) 8.4, “Management of Backfitting, Forward Fitting, Issue Finality, and Information Requests”; constitute forward fitting as that term is defined and described in MD 8.4; or affect the issue finality of any approval issued under 10 CFR part 52, “Licenses, Certifications, and Approvals for Nuclear Power Plants.” As explained in Revision 7 of RG 1.101, applicants and licensees generally are not required to comply with the positions in the RG.

V. Submitting Suggestions for Improvement of Regulatory Guides

A member of the public may, at any time, submit suggestions to the NRC for improvement of existing RGs or for the development of new RGs. Suggestions can be submitted on the NRC's public website at https://www.nrc.gov/reading-rm/doc-collections/reg-guides/contactus.html. Suggestions will be considered in future updates and enhancements to the “Regulatory Guide” series.

VI. Executive Order (E.O.) 12866

The Office of Information and Regulatory Affairs determined that RG 1.101 Revision 7, is not a significant regulatory action under E.O. 12866.

Dated: September 23, 2025.
For the Nuclear Regulatory Commission.
Meraj Rahimi,
Chief, Regulatory Guide and Programs Management Branch, Division of Engineering, Office of Nuclear Regulatory Research.

[FR Doc. 2025-18633 Filed 9-24-25; 8:45 am]

BILLING CODE 7590-01-P